DEPARTMENT OF COMMERCE

International Trade Administration

[A-570-912]

Certain New Pneumatic Off-the-Road Tires From the People's Republic of China: Preliminary Results of Antidumping Duty Changed Circumstances Review

AGENCY: Enforcement and Compliance, International Trade Administration, Department of Commerce.

SUMMARY: On October 30, 2013, the Department of Commerce (“Department”) initiated a changed circumstances review of the antidumping duty order on certain new pneumatic off-the-road tires (“OTR tires”) from the People's Republic of China (“PRC”) to determine whether Shandong Linglong Tyre Co., Ltd. (“Shandong Linglong”) is the successor-in-interest to Zhaoyuan Leo Rubber Co., Ltd. (“Leo Rubber”), for the purpose of determining antidumping duty liability.¹ We preliminarily determine that Shandong Linglong is the successor-in-interest to Leo Rubber, and thus entitled to use Leo Rubber's separate rate. Interested parties are invited to comment on these preliminary results.

¹ See Certain New Pneumatic Off-the-Road Tires From the People's Republic of China: Initiation of Changed Circumstances Review, 78 FR 64913 (October 30, 2013) (“Initiation Notice”).

DATES: Effective Date: April 17, 2014.

FOR FURTHER INFORMATION CONTACT: Andrew Medley, AD/CVD Operations, Office III, Enforcement and Compliance, International Trade Administration, U.S. Department of Commerce, 1401 Constitution Avenue NW., Washington, DC 20230; telephone: 202-482-4987.

SUPPLEMENTARY INFORMATION:

Background

On September 4, 2008, the Department published in the Federal Register an antidumping duty order on OTR tires from the PRC.² Under the Order, Leo Rubber received the separate-rate respondent rate, as revised, of 12.83 percent.³

² See Certain New Pneumatic Off-the-Road Tires From the People's Republic of China: Notice of Amended Final Affirmative Determination of Sales at Less Than Fair Value and Antidumping Duty Order, 73 FR 51624 (September 4, 2008) (“Order”).

³ On August 30, 2012, the Department published in the Federal Register a final determination, under section 129 of the Uruguay Round Agreements Act (“URAA”), regarding the antidumping duty investigation on OTR Tires from the PRC. See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683 (August 30, 2012). As part the Department's final determination under section 129 of the URAA, Leo Rubber was assigned a revised cash deposit rate of 12.83 percent. Id., 73 FR at 51627.

On October 30, 2013, in response to a request from Shandong Linglong, the Department initiated a changed circumstances review to determine if Shandong Linglong is the successor-in-interest to Leo Rubber.⁴ On November 15, 2013, the Department issued Shandong Linglong a questionnaire. On December 31, 2013, Shandong Linglong submitted its response to the Department's questionnaire.⁵ No other party filed any further information or comment for these preliminary results.

⁴ See Initiation Notice.

⁵ See Letter from Shandong Linglong titled “New Pneumatic Off-The-Road Tires from the People's Republic of China: Response to the Changed Circumstances Questionnaire,” dated December 31, 2013, and letter from Shandong Linglong titled “New Pneumatic Off-The-Road Tires from the People's Republic of China: Submission of Exhibits 13 and 14 of the Final Proprietary Version of the Changed Circumstances Questionnaire,” dated February 26, 2014 (collectively, “Questionnaire Response”).

Scope of the Order

The merchandise covered by this Order includes new pneumatic tires designed for off-the-road and off-highway use, subject to certain exceptions. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.⁶

⁶ For a complete description of the Scope of the Order, see the Department's Memorandum to Melissa G. Skinner, Director, Office III, Antidumping and Countervailing Duty Operations, titled “Certain New Pneumatic Off-the-Road Tires from the People's Republic of China: Preliminary Successor-In-Interest Determination,” dated concurrently with this notice (“Preliminary Successor-In-Interest Memorandum”) at “Scope of the Order.”

Preliminary Results

In this changed circumstances review, pursuant to section 751(b) of the Tariff Act of 1930, as amended (“the Act”), the Department conducted a successor-in-interest analysis. In making a successor-in-interest determination, the Department examines several factors, including, but not limited to, changes in the following: (1) Management; (2) production facilities; (3) supplier relationships; and (4) customer base.⁷ While no single factor or combination of factors will necessarily provide a dispositive indication of a successor-in-interest relationship, generally, the Department will consider the new company to be the successor to the previous company if the new company's resulting operation is not materially dissimilar to that of its predecessor.⁸ Thus, if the record evidence demonstrates that, with respect to the production and sale of the subject merchandise, the new company operates as the same business entity as the predecessor company, the Department may assign the new company the cash deposit rate of its predecessor.⁹

⁷ See, e.g., Notice of Final Results of Changed Circumstances Antidumping Duty Administrative Review: Polychloroprene Rubber From Japan, 67 FR 58 (January 2, 2002).

⁸ See, e.g., Fresh and Chilled Atlantic Salmon From Norway; Final Results of Changed Circumstances Antidumping Duty Administrative Review, 64 FR 9979, 9980 (March 1, 1999).

⁹ See, e.g., Circular Welded Non-Alloy Steel Pipe From the Republic of Korea; Preliminary Results of Antidumping Duty Changed Circumstances Review, 63 FR 14679 (March 26, 1998), unchanged in Circular Welded Non-Alloy Steel Pipe From Korea; Final Results of Antidumping Duty Changed Circumstances Review, 63 FR 20572 (April 27, 1998) (finding that a company which only changed its name and did not change its operations is a successor-in-interest to the company before it changed its name).

In accordance with 19 CFR 351.216, we preliminarily determine that Shandong Linglong is the successor-in-interest to Leo Rubber. Record evidence, as submitted by Shandong Linglong, indicates that Shandong Linglong operates as essentially the same business entity as Leo Rubber.¹⁰ For the complete successor-in-interest analysis, including discussion of business proprietary information, refer to the accompanying successor-in-interest memorandum.¹¹

¹⁰ See Questionnaire Response.

¹¹ See Preliminary Successor-In-Interest Memorandum.

We find that the evidence provided by Shandong Linglong is sufficient to preliminarily determine that the change of its corporate name and form did not affect the company's operations in a meaningful way.¹² Therefore, we preliminarily determine that Shandong Linglong is the successor-in-interest to Leo Rubber and, thus, should receive the same antidumping duty treatment with respect to the Order as the former Leo Rubber.

¹² Id.; see also Questionnaire Response.

If these preliminary results are adopted in our final results of this changed circumstances review, the Department will instruct U.S. Customs and Border Protection to continue suspension of liquidation and collect a cash deposit rate of 12.83 percent on all shipments of the subject merchandise exported by Shandong Linglong and entered, or withdrawn from warehouse, for consumption, on or after the publication date of the final results of this changed circumstances review.¹³ This deposit rate shall remain in effect until further notice.

¹³ See, e.g., Stainless Steel Plate in Coils From Belgium: Notice of Final Results of Antidumping Duty Changed Circumstances Review, 77 FR 21963 (April 12, 2012).

Public Comment

Pursuant to 19 CFR 351.310(c), any interested party may request a hearing within 30 days of publication of this notice. In accordance with 19 CFR 351.309(c)(1)(ii), interested parties may submit case briefs not later than 30 days after the date of publication of this notice.¹⁴ Rebuttal briefs, limited to issues raised in the case briefs, may be filed no later than five days after the case briefs, in accordance with 19 CFR 351.309(d). All briefs must be filed electronically using Enforcement and Compliance's Antidumping and Countervailing Duty Centralized Electronic Service System (“IA ACCESS”). An electronically filed document must be received successfully in its entirety by IA ACCESS, by 5 p.m. Eastern Time on the due date.

¹⁴ If an interested party is of the view that certain arguments continue to be relevant to the Department's final results of this review, that interested party is required to file a case brief containing all such arguments, including any such arguments presented to the Department before the date of publication of the preliminary results, pursuant to 19 CFR 351.309(c)(2).

Consistent with 19 CFR 351.216(e), we will issue the final results of this changed circumstances review no later than 270 days after the date on which this review was initiated, or within 45 days if all parties agree to our preliminary finding.

This notice is published in accordance with sections 751(b)(1) and 777(i) of the Act and 19 CFR 351.216, 351.221(b) and 351.221(c)(3).

Dated: April 10, 2014.
Paul Piquado,
Assistant Secretary for Enforcement and Compliance.

[FR Doc. 2014-08799 Filed 4-16-14; 8:45 am]

BILLING CODE 3510-DS-P